SURFACE TRANSPORTATION BOARD

[Docket No. FD 36271]

Walking Horse Railroad, LLC—Change in Operators Exemption—Walking Horse and Eastern Railroad Company, Inc.

Walking Horse Railroad, LLC (WHRR), a noncarrier, has filed a verified notice of exemption under 49 CFR 1150.31 to assume operations over approximately 7.9 miles of rail line owned by Bedford County Rail Authority (BCRA). The Line extends between milepost 0.0, a point of connection to CSX Transportation, Inc., at or near Wartrace, and milepost 7.9, the end of track at or near Shelbyville, in Bedford County, Tenn. (the Line). WHRR states that the Line is currently operated by Walking Horse and Eastern Railroad Company, Inc. (WHOE). WHRR states that an agreement has been reached among BCRA, WHRR, and WHOE for a change in operator from WHOE to WHRR.

The transaction is related to a concurrently filed verified notice of exemption in Gregory B. Cundiff Trust—Continuance in Control Exemption—Tennessee Railroad Holdings, Inc., Sequatchie Valley Switching Co., & Walking Horse Railroad, Docket No. FD 36272, in which the Gregory B. Cundiff Trust, the Connie Cundiff Trust, CGX, Inc., and Ironhorse Resources, Inc., seek to continue in control of WHRR upon WHRR's becoming a Class III rail carrier.

WHRR certifies that the proposed change in operators transaction and WHRR's anticipated operation of the Line do not involve any provision or agreement that would limit future interchange. Further, WHRR certifies that its projected annual rail revenues as a result of the transaction will not exceed $5 million and will not result in WHRR's becoming a Class II or Class I rail carrier. Under 49 CFR 1150.32(b), a change in operator requires that notice be given to shippers. WHRR states that it provided notice of the proposed change in operators to the shippers on the Line.

The earliest this transaction may be consummated is March 27, 2019, the effective date of exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than March 20, 2019.

An original and 10 copies of all pleadings, referring to Docket No. FD 36271, must be filed with the Surface Transportation Board, 395 E Street SW, Washington, DC 20423-0001. In addition, one copy of each pleading must be served on Thomas F. McFarland, Thomas F. McFarland, P.C., 208 South LaSalle Street, Suite 1666, Chicago, IL 60604-1228.

Board decisions and notices are available at www.stb.gov.

Decided: March 8, 2019.
By the Board, Allison C. Davis, Acting Director, Office of Proceedings.
Jeffrey Herzig,
Clearance Clerk.

[FR Doc. 2019-04612 Filed 3-12-19; 8:45 am]

BILLING CODE 4915-01-P